DEPARTMENT OF ENERGY

Federal Energy Regulatory Commission

[Docket Nos. RM01-12-000, RT01-2-000,RT01-10-000, RT01-15-000, ER02-323-000,RT01-34-000, RT01-35-000, RT01-67-000, RT01-74-000, RT01-75-000, RT01-77-000, RT01-85-000, RT01-86-000, RT01-87-000, RT01-88-000, RT01-94-000, RT01-95-000, RT01-98-000, RT01-99-000, RT01-100-000, RT01-101-000, EC01-146-000, ER01-3000-000, RT02-1-000, EL02-9-000, EC01-156-000, ER01-3154-000, and EL01-80-000]

Electricity Market Design and Structure (RTO Cost Benefit Analysis Report); Notice of Technical Conference on Results of RTO Cost Benefit Report

March 8, 2002.

The Federal Energy Regulatory Commission (Commission) is planning to hold a technical conference at its Washington, DC, headquarters on March 25, 2002 to allow the public and all interested participants an opportunity to ask questions about the results of its RTO Cost Benefit Report. This technical conference is in additional to the regional teleconferences announced in our March 1, 2002 notice. The technical conference will be held from 10:00 am-2:00 pm EST in the Commission's Meeting Room. All previously scheduled regional teleconferences for industry and the public will still be held on March 18 and 19, 2002 .

Like the regional technical teleconferences, the March 25th technical conference is designed to assist participants in understanding the results of the RTO Cost Benefit Report and not to discuss the merits of the Commission's RTO policy. The Commission believes that this conference and the regional teleconferences will assist the participants in preparing comments on the report which are due April 9, 2002. Reply comments are still due April 23, 2002.

No telephone communication bridge will provided at this meeting. The technical conference will be transcribed and the transcript will be placed in appropriate and related dockets. Copies of the transcripts will be available from Ace-Federal Reporters (800-336-6646 or 202-347-3700) at cost and will be available on the Commission's web site 10 days after receipt from Ace-Federal Reporters.

For further information, please contact either: William Meroney at 202-208-1069 or William.meroney@ferc.gov, Charles Whitmore at 202-208-1256 or Charles.whitmore@ferc.gov, Federal Energy Regulatory Commission, 888 N. Capitol Street, NE., Washington, DC 20426.

Magalie R. Salas,
Secretary.

[FR Doc. 02-6248 Filed 3-14-02; 8:45 am]

BILLING CODE 6717-01-P A